DEPARTMENT OF THE INTERIOR

National Park Service

[NPS-WASO-CR-18445; PPBSADA0, PPMPSAS1Y.Y00000 (155)]

Proposed Information Collection; Nomination of Properties for Listing in the National Register of Historic Places

AGENCY: National Park Service, Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. This IC is scheduled to expire on September 30, 2015. We may not conduct or sponsor and a person is not required to respond to a collection unless it displays a currently valid OMB control number.

DATES: To ensure that we are able to consider your comments on this IC, we must receive them by August 25, 2015.

ADDRESSES: Send your comments on the IC to Madonna L. Baucum, Information Collection Clearance Officer, National Park Service, 1849 C Street NW. (Mail Stop 2601), Washington, DC 20240 (mail); or madonna_baucum@nps.gov (email). Please include “1024-0018” in the subject line of your comments.

FOR FURTHER INFORMATION CONTACT: To request additional information about this IC, contact Lisa Deline, NPS Historian, National Register of Historic Places, 1849 C Street NW., (mail stop 2280), Washington, DC 20240.

SUPPLEMENTARY INFORMATION:

I. Abstract

The National Register of Historic Places (National Register) is the official Federal list of districts, sites, buildings, structures, and objects significant in American history, architecture, archeology, engineering, and culture. National Register properties have significance to the history of communities, States, or the Nation. The National Historic Preservation Act of 1966 requires the Secretary of the Interior to maintain and expand the National Register, and to establish criteria and guidelines for including properties on the National Register. National Register properties must be considered in the planning for Federal or federally assisted projects, and listing in the National Register is required for eligibility for Federal rehabilitation tax incentives. The National Park Service administers the National Register. Nominations for listing historic properties come from State Historic Preservation Officers (SHPO), from Federal Preservation Officers (FPO), for properties owned or controlled by the United States Government, and from Tribal Historic Preservation Officers (THPO), for properties on tribal lands. Private individuals and organizations, local governments, and American Indian tribes often initiate this process and prepare the necessary documentation. Regulations at 36 CFR 60 and 63 establish the criteria and guidelines for listing and for determining the eligibility of properties. We use three forms for nominating properties and providing documentation for the proposed listings:

• NPS Form 10-900 (National Register of Historic Places Registration Form).

• NPS Form 10-900-a (National Register of Historic Places Continuation Sheet).

• NPS Form 10-900-b (National Register of Historic Places Multiple Property Documentation Form).

This Notice provides additional information regarding the packages submitted to the NPS and to expand the details for our burden from the original Notice published on January 28, 2015 (80 FR 4589). The following are the five types of package submissions the NPS receives from the SHPOs, FPOs, and/or THPOs with the respective burden estimates broken down by state in Section II below:

• 36 CFR 60 and 63, National Register of Historic Places Registration Nomination Form; Continuation Sheet; NR Multiple Property Submission Multiple Property Documentation Form Submitted to State & Local Gov't by Individuals or Households (Forms 10-900, 10-900-a and 10-900-b)—packages submitted by nonconsultants;

• Individual Nominations Submitted to State & Local Gov't by Consultants (Forms 10-900 and 10-900-a)—Packages submitted by paid consultants;

• District Nominations Submitted to State and Local Gov't by Consultants (Form 10-900 and 10-900-a)—Packages submitted by paid consultants;

• Nominations Submitted under Existing MPS Covers to State & Local Gov't by Consultants (Forms 10-900 and 10-900-a)—Packages submitted by paid consultants; and

• Newly Proposed MPS Cover Document Submitted to State & Local Gov't by Consultants (Forms 10-900-b and 10-900-a)—Packages submitted by paid consultants.

These forms and supporting documentation go to the State Historic Preservation Office (SHPO) of the State [or FPO, or THPO, respectively] where the property is located. The State Historic Preservation Officer, Federal Preservation Officer, or Tribal Historic Preservation Officer can take one of several options: Reject the property, ask for more information, (or in the case of the SHPO, list the property just with the State), or send the forms to us for listing on the National Register. An appeals process is also available to any person or local government for the failure or refusal of a nominating authority to nominate a property. Once NPS receive the forms, NPS conducts a similar review process.

Listing on the National Register provides formal recognition of a property's historical, architectural, or archeological significance based on national standards used by every State. The listing places no obligations on private property owners, and there are no restrictions on the use, treatment, transfer, or disposition of private property.

II. Data

OMB Control Number: 1024-0018.

Expiration Date: September 30, 2015.

Title: Nomination of Properties for Listing in the National Register of Historic Places, 36 CFR 60 and 63.

Service Form Numbers: NPS 10-900, 10-900-a, and 10-900b.

Type of Request: Extension of a previously approved collection of information.

Description of Respondents: State, tribal, and local governments; businesses; nonprofit organizations; and individuals.

Respondent's Obligation: Required to obtain or retain a benefit.

Frequency of Collection: On occasion.

| Total annual respondents | Total annual responses | Average time per response (hours) | Total annual burden hours
36 CFR 60 and 63, National Register of Historic Places Registration Nomination Form; Continuation Sheet; NR Multiple Property Submission Multiple Property Documentation Form Submitted to State & Local Gov't by Individuals or Households (submitted by “Nonconsultants“—Forms 10-900, 10-900-a and 10-900-b)
Nonconsultants | 100 | 100 | 250 | 25,000
Individual Nominations Submitted to State & Local Gov't by Consultants (Forms 10-900 and 10-900-a)
Consultants | 200 | 635 | 120 | 76,200
District Nominations Submitted to State and Local Gov't by Consultants (Form 10-900 and 10-900-a)
Consultants | 100 | 435 | 230 | 100,050
Nominations Submitted under Existing MPS Covers to State & Local Gov't by Consultants (Forms 10-900 and 10-900-a)
Consultants | 12 | 75 | 100 | 7,500
Newly Proposed MPS Cover Document Submitted to State & Local Gov't by Consultants (Forms 10-900-b and 10-900-a)
Consultants | 37 | 37 | 280 | 10,360
Totals: | 449 | 1,282 |  | 219,110

Detailed annual burden hour breakdown by package submission type and state:

36 CFR 60 and 63, National Register of Historic Places Registration Nomination Form; Continuation Sheet; NR Multiple Property Submission Multiple Property Documentation Form Submitted to State & Local Gov't by Individuals or Households (aka “Nonconsultant“—Forms 10-900, 10-900-a and 10-900-b)

Individuals or Households
[Burden broken down by state]
| Annual respondents | Total annual responses | Average time per response (hours) | Total annual burden hours
Alabama | 2 | 2 | 250 | 500
Alaska | 2 | 2 | 250 | 500
Arizona | 2 | 2 | 250 | 500
Arkansas | 2 | 2 | 250 | 500
California | 2 | 2 | 250 | 500
Colorado | 2 | 2 | 250 | 500
Connecticut | 2 | 2 | 250 | 500
Delaware | 2 | 2 | 250 | 500
Florida | 2 | 2 | 250 | 500
Georgia | 2 | 2 | 250 | 500
Hawaii | 2 | 2 | 250 | 500
Idaho | 2 | 2 | 250 | 500
Illinois | 2 | 2 | 250 | 500
Indiana | 2 | 2 | 250 | 500
Iowa | 2 | 2 | 250 | 500
Kansas | 2 | 2 | 250 | 500
Kentucky | 2 | 2 | 250 | 500
Louisiana | 2 | 2 | 250 | 500
Maine | 2 | 2 | 250 | 500
Maryland | 2 | 2 | 250 | 500
Massachusetts | 2 | 2 | 250 | 500
Michigan | 2 | 2 | 250 | 500
Minnesota | 2 | 2 | 250 | 500
Mississippi | 2 | 2 | 250 | 500
Missouri | 2 | 2 | 250 | 500
Montana | 2 | 2 | 250 | 500
Nebraska | 2 | 2 | 250 | 500
Nevada | 2 | 2 | 250 | 500
New Hampshire | 2 | 2 | 250 | 500
New Jersey | 2 | 2 | 250 | 500
New Mexico | 2 | 2 | 250 | 500
New York | 2 | 2 | 250 | 500
North Carolina | 2 | 2 | 250 | 500
North Dakota | 2 | 2 | 250 | 500
Ohio | 2 | 2 | 250 | 500
Oklahoma | 2 | 2 | 250 | 500
Oregon | 2 | 2 | 250 | 500
Pennsylvania | 2 | 2 | 250 | 500
Rhode Island | 2 | 2 | 250 | 500
South Carolina | 2 | 2 | 250 | 500
South Dakota | 2 | 2 | 250 | 500
Tennessee | 2 | 2 | 250 | 500
Texas | 2 | 2 | 250 | 500
Utah | 2 | 2 | 250 | 500
Vermont | 2 | 2 | 250 | 500
Virginia | 2 | 2 | 250 | 500
Washington | 2 | 2 | 250 | 500
West Virginia | 2 | 2 | 250 | 500
Wisconsin | 2 | 2 | 250 | 500
Wyoming | 2 | 2 | 250 | 500
Subtotals: | 100 | 100 |  | 25,000

Individual Nominations Submitted to State & Local Gov't by Consultants (Forms 10-900 and 10-900-a)

State, Local, and Tribal Governments
[Burden broken down by state]
| Annual respondents | Total annual responses | Average time per response (hours) | Total annual burden hours
Alabama | 4 | 15 | 120 | 1,800
Alaska | 4 | 12 | 120 | 1,440
Arizona | 4 | 12 | 120 | 1,440
Arkansas | 4 | 12 | 120 | 1,440
California | 4 | 12 | 120 | 1,440
Colorado | 4 | 12 | 120 | 1,440
Connecticut | 4 | 12 | 120 | 1,440
Delaware | 4 | 12 | 120 | 1,440
Florida | 4 | 12 | 120 | 1,440
Georgia | 4 | 12 | 120 | 1,440
Hawaii | 4 | 12 | 120 | 1,440
Idaho | 4 | 12 | 120 | 1,440
Illinois | 4 | 15 | 120 | 1,800
Indiana | 4 | 12 | 120 | 1,440
Iowa | 4 | 12 | 120 | 1,440
Kansas | 4 | 12 | 120 | 1,440
Kentucky | 4 | 12 | 120 | 1,440
Louisiana | 4 | 12 | 120 | 1,440
Maine | 4 | 12 | 120 | 1,440
Maryland | 4 | 12 | 120 | 1,440
Massachusetts | 4 | 15 | 120 | 1,800
Michigan | 4 | 12 | 120 | 1,440
Minnesota | 4 | 12 | 120 | 1,440
Mississippi | 4 | 12 | 120 | 1,440
Missouri | 4 | 15 | 120 | 1,800
Montana | 4 | 12 | 120 | 1,440
Nebraska | 4 | 12 | 120 | 1,440
Nevada | 4 | 12 | 120 | 1,440
New Hampshire | 4 | 12 | 120 | 1,440
New Jersey | 4 | 12 | 120 | 1,440
New Mexico | 4 | 12 | 120 | 1,440
New York | 4 | 25 | 120 | 3,000
North Carolina | 4 | 12 | 120 | 1,440
North Dakota | 4 | 12 | 120 | 1,440
Ohio | 4 | 12 | 120 | 1,440
Oklahoma | 4 | 12 | 120 | 1,440
Oregon | 4 | 12 | 120 | 1,440
Pennsylvania | 4 | 15 | 120 | 1,800
Rhode Island | 4 | 12 | 120 | 1,440
South Carolina | 4 | 12 | 120 | 1,440
South Dakota | 4 | 16 | 120 | 1,920
Tennessee | 4 | 12 | 120 | 1,440
Texas | 4 | 12 | 120 | 1,440
Utah | 4 | 12 | 120 | 1,440
Vermont | 4 | 12 | 120 | 1,440
Virginia | 4 | 12 | 120 | 1,440
Washington | 4 | 12 | 120 | 1,440
West Virginia | 4 | 15 | 120 | 1,800
Wisconsin | 4 | 12 | 120 | 1,440
Wyoming | 4 | 12 | 120 | 1,440
Subtotals: | 200 | 635 |  | 76,200

District Nominations Submitted to State and Local Gov't by Consultants (Form 10-900 and 10-900-a)

State, Local, and Tribal Governments
[Burden broken down by state]
| Annual respondents | Total annual responses | Average time per response (hours) | Total annual burden hours
Alabama | 2 | 12 | 230 | 2,760
Alaska | 2 | 8 | 230 | 1,840
Arizona | 2 | 8 | 230 | 1,840
Arkansas | 2 | 8 | 230 | 1,840
California | 2 | 8 | 230 | 1,840
Colorado | 2 | 8 | 230 | 1,840
Connecticut | 2 | 8 | 230 | 1,840
Delaware | 2 | 12 | 230 | 2,760
Florida | 2 | 8 | 230 | 1,840
Georgia | 2 | 8 | 230 | 1,840
Hawaii | 2 | 8 | 230 | 1,840
Idaho | 2 | 8 | 230 | 1,840
Illinois | 2 | 8 | 230 | 1,840
Indiana | 2 | 8 | 230 | 1,840
Iowa | 2 | 8 | 230 | 1,840
Kansas | 2 | 8 | 230 | 1,840
Kentucky | 2 | 8 | 230 | 1,840
Louisiana | 2 | 8 | 230 | 1,840
Maine | 2 | 8 | 230 | 1,840
Maryland | 2 | 8 | 230 | 1,840
Massachusetts | 2 | 12 | 230 | 2,760
Michigan | 2 | 8 | 230 | 1,840
Minnesota | 2 | 8 | 230 | 1,840
Mississippi | 2 | 8 | 230 | 1,840
Missouri | 2 | 8 | 230 | 1,840
Montana | 2 | 8 | 230 | 1,840
Nebraska | 2 | 8 | 230 | 1,840
Nevada | 2 | 8 | 230 | 1,840
New Hampshire | 2 | 8 | 230 | 1,840
New Jersey | 2 | 8 | 230 | 1,840
New Mexico | 2 | 8 | 230 | 1,840
New York | 2 | 15 | 230 | 3,450
North Carolina | 2 | 12 | 230 | 2,760
North Dakota | 2 | 8 | 230 | 1,840
Ohio | 2 | 12 | 230 | 2,760
Oklahoma | 2 | 8 | 230 | 1,840
Oregon | 2 | 8 | 230 | 1,840
Pennsylvania | 2 | 8 | 230 | 1,840
Rhode Island | 2 | 8 | 230 | 1,840
South Carolina | 2 | 8 | 230 | 1,840
South Dakota | 2 | 12 | 230 | 2,760
Tennessee | 2 | 8 | 230 | 1,840
Texas | 2 | 8 | 230 | 1,840
Utah | 2 | 8 | 230 | 1,840
Vermont | 2 | 8 | 230 | 1,840
Virginia | 2 | 12 | 230 | 2,760
Washington | 2 | 8 | 230 | 1,840
West Virginia | 2 | 8 | 230 | 1,840
Wisconsin | 2 | 8 | 230 | 1,840
Wyoming | 2 | 8 | 230 | 1,840
Subtotals: | 100 | 435 |  | 100,050

Nominations Submitted under Existing MPS Covers to State & Local Gov't by Consultants (Forms 10-900 and 10-900-a)

State, Local, and Tribal Governments
[Burden broken down by state]
| Annual respondents | Total annual responses | Average time per response (hours) | Total annual burden hours
Alabama | 0 | 0 | 100 | 0
Alaska | 0 | 0 | 100 | 0
Arizona | 0 | 0 | 100 | 0
Arkansas | 0 | 0 | 100 | 0
California | 1 | 6 | 100 | 600
Colorado | 0 | 0 | 100 | 0
Connecticut | 0 | 0 | 100 | 0
Delaware | 0 | 0 | 100 | 0
Florida | 0 | 0 | 100 | 0
Georgia | 0 | 0 | 100 | 0
Hawaii | 0 | 0 | 100 | 0
Idaho | 0 | 0 | 100 | 0
Illinois | 0 | 0 | 100 | 0
Indiana | 0 | 0 | 100 | 0
Iowa | 0 | 0 | 100 | 0
Kansas | 0 | 0 | 100 | 0
Kentucky | 0 | 0 | 100 | 0
Louisiana | 0 | 0 | 100 | 0
Maine | 0 | 0 | 100 | 0
Maryland | 0 | 0 | 100 | 0
Massachusetts | 1 | 7 | 100 | 700
Michigan | 0 | 0 | 100 | 0
Minnesota | 0 | 0 | 100 | 0
Mississippi | 0 | 0 | 100 | 0
Missouri | 1 | 6 | 100 | 600
Montana | 0 | 0 | 100 | 0
Nebraska | 1 | 6 | 100 | 600
Nevada | 0 | 0 | 100 | 0
New Hampshire | 0 | 0 | 100 | 0
New Jersey | 0 | 0 | 100 | 0
New Mexico | 0 | 0 | 100 | 0
New York | 3 | 18 | 100 | 1,800
North Carolina | 1 | 6 | 100 | 600
North Dakota | 0 | 0 | 100 | 0
Ohio | 1 | 6 | 100 | 600
Oklahoma | 0 | 0 | 100 | 0
Oregon | 1 | 6 | 100 | 600
Pennsylvania | 1 | 6 | 100 | 600
Rhode Island | 0 | 0 | 100 | 0
South Carolina | 0 | 0 | 100 | 0
South Dakota | 0 | 0 | 100 | 0
Tennessee | 0 | 0 | 100 | 0
Texas | 0 | 0 | 100 | 0
Utah | 0 | 0 | 100 | 0
Vermont | 0 | 0 | 100 | 0
Virginia | 1 | 8 | 100 | 800
Washington | 0 | 0 | 100 | 0
West Virginia | 0 | 0 | 100 | 0
Wisconsin | 0 | 0 | 100 | 0
Wyoming | 0 | 0 | 100 | 0
Subtotals: | 12 | 75 |  | 7,500

Newly Proposed MPS Cover Document Submitted to State & Local Gov't by Consultants (Forms 10-900-b and 10-900-a)

State, Local, and Tribal Governments
[Burden broken down by state]
| Annual respondents | Total annual responses | Average time per response (hours) | Total annual burden hours
Alabama | 1 | 1 | 280 | 280
Alaska | 0 | 0 | 280 | 0
Arizona | 0 | 0 | 280 | 0
Arkansas | 0 | 0 | 280 | 0
California | 3 | 3 | 280 | 840
Colorado | 0 | 0 | 280 | 0
Connecticut | 1 | 1 | 280 | 280
Delaware | 0 | 0 | 280 | 0
Florida | 0 | 0 | 280 | 0
Georgia | 0 | 0 | 280 | 0
Hawaii | 0 | 0 | 280 | 0
Idaho | 0 | 0 | 280 | 0
Illinois | 0 | 0 | 280 | 0
Indiana | 4 | 4 | 280 | 1,120
Iowa | 3 | 3 | 280 | 840
Kansas | 0 | 0 | 280 | 0
Kentucky | 2 | 2 | 280 | 560
Louisiana | 2 | 2 | 280 | 560
Maine | 0 | 0 | 280 | 0
Maryland | 0 | 0 | 280 | 0
Massachusetts | 2 | 2 | 280 | 560
Michigan | 0 | 0 | 280 | 0
Minnesota | 0 | 0 | 280 | 0
Mississippi | 1 | 1 | 280 | 280
Missouri | 0 | 0 | 280 | 0
Montana | 0 | 0 | 280 | 0
Nebraska | 0 | 0 | 280 | 0
Nevada | 0 | 0 | 280 | 0
New Hampshire | 1 | 1 | 280 | 280
New Jersey | 0 | 0 | 280 | 0
New Mexico | 0 | 0 | 280 | 0
New York | 5 | 5 | 280 | 1,400
North Carolina | 0 | 0 | 280 | 0
North Dakota | 0 | 0 | 280 | 0
Ohio | 0 | 0 | 280 | 0
Oklahoma | 0 | 0 | 280 | 0
Oregon | 0 | 0 | 280 | 0
Pennsylvania | 5 | 5 | 280 | 1,400
Rhode Island | 0 | 0 | 280 | 0
South Carolina | 1 | 1 | 280 | 280
South Dakota | 0 | 0 | 280 | 0
Tennessee | 0 | 0 | 280 | 0
Texas | 0 | 0 | 280 | 0
Utah | 0 | 0 | 280 | 0
Vermont | 1 | 1 | 280 | 280
Virginia | 1 | 1 | 280 | 280
Washington | 0 | 0 | 280 | 0
West Virginia | 3 | 3 | 280 | 840
Wisconsin | 0 | 0 | 280 | 0
Wyoming | 1 | 1 | 280 | 280
Subtotals: | 37 | 37 |  | 10,360

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: June 23, 2015.
Madonna L. Baucum,
Information Collection Clearance Officer, National Park Service.

[FR Doc. 2015-15766 Filed 6-25-15; 8:45 am]

BILLING CODE 4310-EH-P